DEPARTMENT OF HEALTH AND HUMAN SERVICES

National Institutes of Health

National Institute on Drug Abuse Notice of May Advisory Council on Drug Abuse Meeting

SUMMARY: Pursuant to the NIH Reform Act of 2006 (42 U.S.C. Sec. 281(d)(4)), notice is hereby given that the National Institute on Drug Abuse (NIDA) will host a meeting to enable public discussion on the Institute's proposal to reorganize its extramural program in establishment of a Division of Extramural Research. The proposal seeks to clearly delineate functions and streamline the services provided within the Office of the Director, as well as capitalize on emerging scientific opportunities, while reducing barriers to scientific and interdisciplinary collaboration.

DATES: This public meeting will take place on May 7, 2014 with attendance limited to space available. Any interested person may file written comments by sending an email to NIDADERComment@mail.nih.gov, by May 12, 2014. The statement should include the individual's name, contact information and, when applicable, professional affiliation.

ADDRESSES: Neuroscience Center, Conference Rooms C & D, 6001 Executive Boulevard, Rockville, Maryland 20852.

FOR FURTHER INFORMATION CONTACT: Dave Daubert, Deputy Executive Officer, National Institute on Drug Abuse, Office of the Director, 6001 Executive Boulevard, NSC Building, Room 5274, Bethesda, MD 20892, 301-402-1652, daubert@nih.gov.

SUPPLEMENTARY INFORMATION: Members of the public wishing to attend must RSVP to the contact person on this notice by May 5, 2014. NIH has instituted stringent procedures for entrance onto the NIH campus and constituent facilities. Visitors will be asked to show one form of identification (for example a government-issued photo ID, valid driver's license, or passport) and to state the purpose of their visit. Additionally, individuals who plan to attend and need special assistance, such as sign language interpretation or other reasonable accommodations, should notify the contact person by the deadline provided above in advance of the meeting.

Individuals will also be able to view the meeting via NIH Videocast. Please go to the following link for Videocast access instructions at: http://videocast.nih.gov/faq/#setup.

A portion of this meeting will be closed to the public. Information is available on the Institute's Web site, http://www.drugabuse.gov/news-events/meetings-events/2014/05/national-advisory-council-drug-abuse, where details on the agenda and any additional information for the meeting will be posted when available. A portion of the agenda will include: A report by the Director, NIDA and a public discussion on the proposed reorganization plans for NIDA extramural program.

Dated: April 17, 2014.
Nora Volkow,
Director, National Institute on Drug Abuse, National Institutes of Health.

[FR Doc. 2014-09285 Filed 4-23-14; 8:45 am]

BILLING CODE 4140-01-P